DEPARTMENT OF HEALTH AND HUMAN SERVICES

Administration for Children and Families

Proposed Information Collection Activity: Home Study and Post Release Services Provided to Unaccompanied Children (Office of Management and Budget #: 0970-NEW)

AGENCY: Office of Refugee Resettlement, Administration for Children and Families, U.S. Department of Health and Human Services.

ACTION: Request for public comments.

SUMMARY: The Office of Refugee Resettlement (ORR), Administration for Children and Families (ACF), U.S. Department of Health and Human Services (HHS), is inviting public comments on the proposed information collection, including proposed changes. The request consists of several forms that will allow the Unaccompanied Children (UC) Bureau to continue providing statutorily mandated and discretionary services to promote safe reunifications between sponsors and unaccompanied children released from ORR care and custody.

DATES: Comments due February 18, 2025. In compliance with the requirements of the Paperwork Reduction Act of 1995, ACF is soliciting public comment on the specific aspects of the information collection described in this notice.

ADDRESSES: You can obtain copies of the proposed collection of information and submit comments by emailing infocollection@acf.hhs.gov. Identify all requests by the title of the information collection.

SUPPLEMENTARY INFORMATION:

Description: ORR has undertaken a reorganization of its information collections to promote operational efficiency. The reorganization will result in more collections that contain fewer forms under a single Office of Management and Budget (OMB) number. This request is to create a new information collection that contains forms associated with the provision of Home Study and Post-Release Services (HS/PRS) to unaccompanied children and their sponsors. This information collection will contain six forms transferred from three existing information collections. The forms and the information collections under which they are currently approved are as follows:

• Administration and Oversight of the Unaccompanied Children Program (OMB #0970-0547)

○ Notification of Concern (Form A-7)

• Services Provided to Unaccompanied Children (OMB #0970-0553)

○ Home Study Assessment (Form S-6)

○ Post-Release Service Referral (Form S-19)

○ Post-Release Services Report (Form S-22)

○ Home Study Referral (Form S-26)

• Release of Unaccompanied Children from ORR Custody (OMB #0970-0552)

○ Virtual Check-in Questionnaire (Form R-6)

These forms are completed by care provider case managers at care provider facilities to initiate the referral process for children and sponsors to receive HS/PRS and to document the outcome of safety and well-being follow-up calls to sponsors and released children; by PRS caseworkers to document the provision of PRS, to capture high-level milestones in the child's case after reunification; and to notify ORR of concerning situations that affect a child's safety and well-being, post-release; by home study caseworkers to document and assess the conditions present in the sponsor's home that may impact the released child's safety and wellbeing. These forms are documentary in nature and a critical component of the child's case file.

In addition to grouping forms related to HS/PRS together in this information collection, ORR is proposing the following revisions:

• Notification of Concern (Form A-7):

○ Adjust the burden estimate to account for an increase in the number of children placed in ORR care, reflect that the form is completed by three different groups of respondents, and to reflect an increase in the overall number of fields the respondent will need to complete. The annual number of respondents increased from 60 HS/PRS providers to include 60 HS/PRS providers, 300 care provider case managers, and 78 ORR National Call Center call specialists. The annual number of responses per respondent decreased from 75 responses per HS/PRS Caseworker to 41, with the average number of responses per care provider case manager increasing from 0 to 8.2 and the average number of responses per ORR NCC call specialist increasing from 0 to 31.5. The average burden hours per response increased from 0.25 hours to 0.33 hours to reflect the addition of new fields described above.

• Home Study Assessment (Form S-6): ORR currently has two approved version of this form-one in Word and one that was designed for the UC Path system, which was never implemented. ORR proposes discontinuing the Word version and converting the UC Path version into a PDF form with the following revisions:

○ Global Changes

Replace “UC”, “UAC”, and “Minor” with “Child” or “Unaccompanied Child” wherever they appear

Make minor changes to the phrasing of some existing field labels for clarity

Update dropdown options for the “Gender” field, wherever it appears, to include male, female, and nonbinary

Change all fields that capture both date and time to only capture the date

○ Add the following fields to the Sponsor Identifying Information section.

Phone Number

Relationship to Child

Marital Status

○ Reword a couple existing field labels and add the following fields to the Case Information section:

Date Referred for Home Study

Current Care Provider Facility Name

Care Provider Staff Name

Care Provider Staff Phone

Care Provider Staff Email

Supervisor Phone

Supervisor Email

Caseworker Phone

Caseworker Email

Subcontractor Phone

Subcontractor Email

○ Under the Reason for Referral section:

Change the “Referral Type” field from open text to a dropdown with options for the Trafficking Victims Protection Reauthorization Act of 2008 (TVPRA), Mandated, and Discretionary

Change the “Reason for Referral” field from open text to a list of checkbox options that align with reasons a child's case would be referred for a home study per 45 CFR 410.1204

Add an open text field for “Additional Information Supporting Referral” (if Necessary)

Remove “Concerns to investigate during visit” field

○ Under the “Household Members” section:

Change the “Relationship to Sponsor” and “Relationship to Child” from open text to dropdown fields

Add the following fields:

• Age

• Present during home study?

• Child Abuse/Neglect (CA/N) Check?

• Sex Offender Registry Check?

• Fingerprinted?

Remove the following fields:

• Current Household Member

• Record ID

• Related HS Assessment

• Entry ID

○ Remove the following fields from the Community Resources section:

HS Assessment

Entry

○ Under the Unaccompanied Child Background section:

Expand a single question concerning a child's individualized needs impacting their daily function into six discreet questions pertaining to physical disabilities, developmental disabilities, serious health conditions, current medication regimen, special dietary needs, and the routine use of medical equipment. Each new question includes “Yes/No” radio buttons and an open text field for further elaboration if applicable.

Change the type of response solicited by a question concerning the child's need for support due to criminal, substance use, and gang affiliation histories from yes/no radio buttons to checkboxes for each type of history, and add an open text field for further elaboration, if needed.

○ Under the “Sponsor Background” section:

Add the following questions:

• How does the sponsor manage the concerns reported above?

• Ask the sponsor to list any local resources they rely on or consider to be an asset to the community (example: libraries, parks, clinics, church, community center, nonprofit organizations, social/affinity groups, etc.):

• Follow up: Does the sponsor appear knowledgeable about their community? (Yes/No)

Reorganize the three checkboxes confirming that the sponsor was provided certain information into five checkboxes.

○ In the Sponsor's Motivation and Relationship to the Child Section, add two open text boxes that will allow for further elaboration when the user selects “yes” for one of the following questions:

Does the sponsor have a family support system in the U.S.?

Was the sponsor aware or involved in the UC's child's plan to migrate to the U.S.?

○ Under the Sponsor's Parenting Ability section:

Add the following fields:

• Is the sponsor aware of state and local laws on supervision of children?

• If yes, describe the life changes and plans to accommodate the child. (Follow-up to a question concerning expected major life changes for the sponsor)

“What is the sponsor's understanding of the child's health needs?

• What is the sponsor's understanding of the child's mental health needs?

Revise the question “Is the sponsor aware of any special needs, mental health or complex needs of the child” to “Is the sponsor prepared to support the health needs of the child?”

Under the Legal Services section, replace the abbreviation “LOPC” with “Legal Orientation Program for Custodians presentation”

Under the Financial section, add “Does the sponsor understand that they are not authorized to charge the child or their family any fees or be reimbursed for their costs?”

○ Add the following under the Home and Community Section:

Which of the following accessible features are present in the sponsor home? (Checkboxes: Exterior ramps, Elevator, Grab bars, Wide hallways and doorways, Motion-sensitive lighting, Walk/roll-in shower or tub, Low countertops, Raised-height toilet, Other (Please Describe). An open textbox to provide more information if the user selects “Other” is also included.)

Are Sleeping Quarters and common areas handicapped accessible?

Does the sponsor have knowledge on how to access public transportation?

○ Under the Summary section, add the question “Is there an active plan in place to address the above concerns?”

○ Adjust the burden estimate to reflect an increase in the number of home studies conducted and in the overall number of fields the respondent will need to complete. The annual number of respondents is unchanged, the annual number of responses per respondent increased from 81 to 124.4, and the average burden hours per response increased from 0.75 hours to 1.0 hours.

• Post-Release Services Referral (Form S-19):

○ Add “physical location of the child” filed to the UC Basic Information section, consistent with changes made to the UC Case Status (Form S-27) form; this field will auto-populate data from the UC Portal Discharge Tab.

○ Move the following fields to appear closer to the top of the form:

Referral ID

Referral Status

Acceptance Date

Expected Closure Date

○ Add the following fields to both the PRS-TVPRA section and PRS sections under Sponsor Information:

Sponsor Phone Number

Sponsor relationship to Child

Sponsor Email

○ Add the following fields under both the PRS-TVPRA section and PRS sections under the Referring Facility Information section:

Case Manager Name

Unification Specialist Name

Unification Specialist Email

○ Add a new section header called “Referral Information” and group the following fields under the new header:

What Provider Conducted the Home Study

Reason for Referral

Special Instructions

○ Add “Additional Details” field with open text next to the “Special Instructions” field.

○ For the “Reason for Referral” field under the PRS-TVPRA section, remove the “ORR Discretionary” option and rephrase the “Physical or Sexual Abuse by Caregiver (TVPRA)” field to “Physical or Sexual Abuse (TVPRA)”.

○ For the “Reason for Referral” field under the PRS section:

Rephrase the “Non-relative Sponsor, Multiple Sponsorship (ORR Mandated)” field to “Multiple concurrent sponsorships with at least one unrelated child (ORR Mandated)”.

Add an option for “Previously sponsored two or more children (ORR Mandated)”.

Rephrase the “UC Going to Non-Relative Sponsor (ORR Mandated No Home Study)” field to “Child Going to Non-Relative Sponsor (No Home Study)”.

○ Adjust the burden estimate to account for an increase in the number of care provider facilities completing the form and number of children placed in ORR care, as well as the expansion of Post-Release Services, which are now offered to every child. These changes also reflect a slight increase in the overall number of fields the respondent will need to complete. The annual number of respondents increased from 216 to 300, the annual number of responses per respondent increased/decreased from 46 to 327.3 and the average burden hours per response increased/decreased from 0.33 hours to 0.5 hours.

• Post-Release Services Report (S-22): ORR plans to digitize and incorporate this form into its new interactive, web-based application for PRS. The digitized version of the form collects that same information as the currently approved version with some minor modifications as follows:

○ Change the form title from “Post-Release Services Event” to “Post-Release Services Report”.

○ Change manual entry fields to auto-populate wherever possible.

○ Reword field labels for clarity where needed.

○ Add instructional text to help the user navigate the form.

○ Adjust the burden estimate to account for an increase and number of children placed in ORR care, and to reflect a slight increase in the overall number of fields the respondent will need to complete. The annual number of respondents remains unchanged and the annual number of responses per respondent increased from 968 to 4,112.4. The average burden hours per response increased from 1.0 to 1.08 hours.

• Home Study Referral (S-26):

○ Add “physical location of the child” filed to the UC Basic Information section, consistent with changes made to the UC Case Status (Form S-27) form; this field will auto-populate data from the UC Portal Discharge Tab.

○ Add radio buttons at the top of the form with the following options:

TVPRA

ORR-Mandated

Discretionary

○ Move the following fields to appear closer to the top of the form:

Referral ID

Referral Status

Acceptance Date

Expected Closure Date

○ Add the following fields to both the “PRS-TVPRA” section and “PRS” sections under “Sponsor Information”:

Sponsor Phone Number

Sponsor relationship to Child

Sponsor Email

○ Add the following fields under both the PRS-TVPRA section and PRS sections under the Referring Facility Information section:

Case Manager Name

Unification Specialist Name

Unification Specialist Email

○ Add a new section header called “Referral Information” and group the following fields under the new header:

What Provider Conducted the Home Study

Reason for Referral

Special Instructions

○ Add “Additional Details” field with open text next to the “Special Instructions” field.

○ For the “Reason for Referral” field:

Rephrase the “Non-relative Sponsor, Multiple Sponsorship (ORR Mandated)” field to “Multiple concurrent sponsorships with at least one unrelated child (ORR Mandated)”.

Add an option for “Previously sponsored two or more children (ORR Mandated)”.

Rephrase the “UC Going to Non-Relative Sponsor (ORR Mandated No Home Study)” field to “Child Going to Non-Relative Sponsor (No Home Study)”.

○ Adjust the burden estimate to account for an increase in the number of care provider facilities completing the form and number of children placed in ORR care. These changes also reflect a slight increase in the overall number of fields the respondent will need to complete. The annual number of respondents increased from 216 to 300, the annual number of responses per respondent increased from 46 to 327.3 and the average burden hours per response increased from 0.33 hours to 0.5 hours.

• Virtual Check-In Questionnaire (Form R-6): ORR currently has two approved versions of this form-one in Excel and one that was designed for a web-based application. ORR proposes discontinuing the Excel version and plans to incorporate the other version into its new interactive, web-based application for PRS with some minor modifications as follows:

○ Change manual entry fields to auto-populate wherever possible.

○ Reword field labels for clarity where needed.

○ Add instructional text to help the user navigate the form.

○ Adjust the burden estimate to account for an increase in the number of PRS providers completing the form and to better estimate the number of children and sponsors responding to the questionnaire. The annual number of respondents decreased from 128,487 to 98,195 for children and sponsors and increased from 40 to 60 for PRS providers, and the annual number of responses per respondent decreased from 19,273 to 9,820 for PRS providers.

Respondents: ORR grantee and contractor staff, released children, and their sponsors.

Annual Burden Estimates:

Annual Burden Estimate for Respondents
Form | Annual number of respondents | Number of responses per respondent | Average burden hours per response | Annual total burden hours
Notification of Concern (Form A-7)-HSPRS Caseworker | 60 | 41 | 0.33 | 812
Notification of Concern (Form A-7)-Care Provider Case Manager | 300 | 8.2 | 0.33 | 812
Notification of Concern (Form A-7)-ORR NCC Staff | 78 | 31.5 | 0.33 | 811
Home Study Assessment (Form S-6) | 60 | 124.4 | 1.00 | 7,464
Post-Release Services Referral (Form S-19) | 300 | 327.3 | 0.50 | 49,095
Post-Release Services Report (Form S-22) | 60 | 4,112.4 | 1.08 | 266,484
Home Study Referral (Form S-26) | 300 | 327.3 | 0.50 | 49,095
Virtual Check-in Questionnaire (Form R-6)-Sponsor | 98,195 | 3.0 | 0.25 | 73,646
Virtual Check-in Questionnaire (Form R-6)-Child | 98,195 | 3.0 | 0.25 | 73,646
Virtual Check-in Questionnaire (Form R-6)-Provider | 60 | 9,820.0 | 0.58 | 341,736
Estimated Annual Burden Hours Total: |  |  |  | 863,601

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: 6 U.S.C. 279; 8 U.S.C. 1232)

Mary C. Jones,
ACF/OPRE Certifying Officer.

[FR Doc. 2024-30385 Filed 12-19-24; 8:45 am]

BILLING CODE 4184-45-P